OFFICE OF PERSONNEL MANAGEMENT

5 CFR Part 330

RIN 3206-AI28

Federal Employment Priority Consideration Program for Displaced Employees of the District of Columbia Department of Corrections

AGENCY: Office of Personnel Management.

ACTION: Final rule.

SUMMARY: The Office of Personnel Management (OPM) is issuing final regulations to implement provisions of law affecting the priority consideration program for certain displaced employees of the District of Columbia Department of Corrections seeking Federal positions. These regulations respond to comments received on the interim regulations OPM published on January 22, 2001.

DATE: This final regulation is effective on March 15, 2002.

FOR FURTHER INFORMATION CONTACT: Jacqueline Yeatman on (202) 606-0960, FAX (202) 606-2329, TDD (202) 606-0023 or by email at jryeatma@opm.gov.

SUPPLEMENTARY INFORMATION:

Background

The National Capital Revitalization and Self-Government Improvement Act (part of the Balanced Budget Act of 1997, Sec. 11201, Pub. L. 105-33, 111 Stat. 738, enacted August 5, 1997) mandated that the Lorton Correctional Complex be closed by December 31, 2001. Section 11203 of this law gave priority consideration to employees of the District of Columbia (DC) Department of Corrections (DOC) displaced by this closure. The District of Columbia Courts and Justice Technical Corrections Act of 1998 (Pub. L. 105-274) modified some of the provisions of this priority consideration.

On August 4, 1998, and January 22, 2001, OPM issued interim regulations with request for comment to implement the Priority Consideration Program covering most vacancies in Federal agencies.

Comments Received on Interim Regulations

After OPM published interim regulations on January 22, 2001, we received comments from one Federal agency. This agency asked OPM to add the definition of “agency” in 5 CFR 330.604(a) to these regulations. Although this program includes a definition for “vacancy” providing essentially the same program limitations (covering only competitive service positions), we are adding the definition of “agency” as an additional reference aid.

The agency also suggested that OPM modify 5 CFR 330.1104(c)(b)(i) and (ii) to clarify that a DC DOC employee will lose eligibility under this program if they decline an offer, or fail to respond to an inquiry of availability, for a permanent job at any grade level. We agree that this suggestion will provide additional clarity and have modified § 330.1104(c)(6)(i) and (ii) accordingly.

The commenting agency asked OPM to define “reasonable period of time” for the purposes of 5 CFR 330.1104(c)(6)(ii). There are many factors that may determine a reasonable time frame for a candidate's response, including their location and the communication method being used. We prefer to allow each agency flexibility to consider the specifics of each situation and decide what is reasonable.

The agency was also concerned that it will be difficult for large agencies to keep track of priority eligibles who decline a job offer by an agency component. They suggested that OPM either: (1) Develop a form for DC DOC priority eligibles to complete and submit with each application specifically asking prior Federal job offers; or (2) adopt regulatory language specifying the policies, procedures and/or forms agencies may develop and use for this purpose. We believe imposing additional requirements or paperwork on either applicants or agencies would be unnecessarily burdensome since this does not appear to be a widespread problem. Agencies are free to develop internal procedures to track priority eligibles who decline agency offers, if they wish to do so.

Executive Order 12866, Regulatory Review

This rule has been reviewed by the Office of Management and Budget in accordance with Executive Order 12866.

Regulatory Flexibility Act

I certify that this regulation will not have a significant economic impact on a substantial number of small entities because it pertains only to Federal agencies.

List of Subjects in 5 CFR Part 330

Armed forces reserves, Government employees.

Office of Personnel Management.
Kay Coles James,
Director.

Accordingly, the interim rule amending 5 CFR part 330 which was published at 66 FR 6427 on January 22, 2001, is adopted as a final rule with the following changes:

PART 330—RECRUITMENT, SELECTION, AND PLACEMENT (GENERAL)

1. The authority citation for part 330 is revised to read as follows:

Authority: 5 U.S.C. 1302, 3301, 3302; E.O. 10577, 19 FR 7521, 3 CFR, 1954-58, Comp., p. 218; § 330.102 also issued under 5 U.S.C. 3327; subpart B also issued under 5 U.S.C. 3315 and 8151; § 330.401 also issued under 5 U.S.C. 3310; subpart G also issued under 5 U.S.C. 8337(h) and 8456(b); subpart K also issued under sec. 11203 of Pub. L. 105-33 (111 Stat. 738) and Pub. L. 105-274 (112 Stat. 2424); subpart L also issued under sec. 1232 of Pub. L. 96-70, 93 Stat. 452.

2, In § 330.1103, paragraph (b) is redesignated as (e), paragraph (a) is redesignated as (b), and a new paragraph (a) is added to read, as follows:

§ 330.1103 Definitions.

(a) Agency means an Executive Department, a Government corporation, and an independent establishment as cited in 5 U.S.C. 105. For the purposes of this program, the term “agency” includes all components of an organization, including its Office of Inspector General.

* * * * *

3. In § 330.1104, paragraphs (c)(6)(i) and (ii) are revised to read as follows:

§ 330.1104 Eligibility.

* * * * *

(c) * * *

(6) * * *

(i) Declines a permanent appointment, at any grade level, offered by the agency (whether competitive or excepted) when the employee applied and was found qualified; or

(ii) Fails to respond within a reasonable period of time to an offer or official inquiry of availability from the agency for a permanent appointment, at any grade level, offered by the agency (whether competitive or excepted) when the employee applied and was found qualified.

[FR Doc. 02-3409 Filed 2-12-02; 8:45 am]

BILLING CODE 6325-38-M